DEPARTMENT OF DEFENSE

Office of the Secretary

Termination of Department of Defense Federal Advisory Committees

AGENCY: Department of Defense.

ACTION: Termination of Federal Advisory Committee.

SUMMARY: The Department of Defense (DoD) is publishing this notice to announce that it is terminating the Advisory Council on Dependents' Education.

FOR FURTHER INFORMATION CONTACT: Jim Freeman, Advisory Committee Management Officer for the Department of Defense, 703-692-5952.

SUPPLEMENTARY INFORMATION: Section 576 of the National Defense Authorization Act for Fiscal Year 2017 (Pub. L. 114-328) rescinds 22 U.S.C. 929, which is the statutory authority for the Advisory Council on Dependents' Education (“the Council”). Therefore, the Department of Defense is terminating the Council.

Dated: January 11, 2017.
Aaron Siegel,
Alternate OSD Federal Register Liaison Officer, Department of Defense.

[FR Doc. 2017-00868 Filed 1-13-17; 8:45 am]

BILLING CODE 5001-06-P